Proclamation 9539 of November 8, 2016

Veterans Day, 2016

By the President of the United States of America

A Proclamation

America has long stood as a beacon of hope and opportunity, and few embody that spirit here at home and beyond our borders more than the members of our Armed Forces. Soldiers, Sailors, Airmen, Marines, and Coast Guardsmen are part of an unbroken chain of brave patriots who have served our country with honor and made tremendous sacrifices so that we may live free. On Veterans Day, we salute the women and men who have proudly worn the uniform of the United States of America and the families who have served alongside them, and we affirm our sacred duty as citizens to express our enduring gratitude, both in words and in actions, for their service.

Our country has the best-trained and best-equipped military force in the world, and we need to make sure we have the most supported and respected veterans in the world. We are a Nation that leaves no one behind, and my Administration has made historic investments to provide veterans access to the resources and education they need to share in our Nation's promise when they return home. Partnering with community leaders across America, First Lady Michelle Obama and Dr. Jill Biden's Joining Forces initiative works to ensure our country's heroes can thrive by combatting veteran homelessness, promoting their emotional well-being, and advancing employment training and placement—and we have made great progress. Today, the unemployment rate for veterans is lower than the national average, and veteran homelessness has been nearly cut in half since 2010. We also recognize that some of these courageous men and women have faced and overcome profound challenges, both physically and emotionally, in defense of our freedom. We must continue to provide high quality health care to our veterans and make sure they have the support they have earned and deserve.

The example our Nation's veterans set throughout their lives is a testament to the drive and perseverance that define the American character. Let us uphold our obligations to these heroic individuals and never forget those who paid the ultimate price for our liberty. On this day and throughout the year, may we sustain their lasting contributions to our Nation's progress and carry forward their legacy by building a future that is stronger, safer, and freer for all.

With respect for, and in recognition of, the contributions our service members have made to the cause of peace and freedom around the world, the Congress has provided (5 U.S.C. 6103(a)) that November 11 of each year shall be set aside as a legal public holiday to honor our Nation's veterans.

NOW, THEREFORE, I, BARACK OBAMA, President of the United States of America, do hereby proclaim November 11, 2016, as Veterans Day. I encourage all Americans to recognize the valor and sacrifice of our veterans through appropriate public ceremonies and private prayers, and by observing 2 minutes of silence for our Nation's veterans. I call upon Federal, State, and local officials to display the flag of the United States and to participate in patriotic activities in their communities. I call on all Americans, including civic and fraternal organizations, places of worship, schools, and communities to support this day with commemorative expressions and programs.

IN WITNESS WHEREOF, I have hereunto set my hand this eighth day of November, in the year of our Lord two thousand sixteen, and of the Independence of the United States of America the two hundred and forty-first.

[FR Doc. 2016-27497

Filed 11-10-16; 11:15 am]

Billing code 3295-F7-P